DEPARTMENT OF JUSTICE

Notice of Lodging of Consent Decree Under the Comprehensive Environmental Response, Compensation and Liability Act

In accordance with Departmental Policy, 28 U.S.C. 50.7, notice is hereby given that on May 18, 2007, a proposed Consent Decree in United States v. Baldwinville Products, Inc. et al., Civil Action No. 4:07-cv-40146 was lodged with the United States District Court for the District of Massachusetts.

In this action the United States sought cost recovery with respect to the Birch Hill Dam and Reservoir Project Area Site, located on the Millers and Otter Rivers, in Worcester County, Massachusetts (“the Site”), under the Comprehensive Environmental Response, Compensation and Liability Act (“CERCIA”) against Baldwinville Products, Inc. and Erving Industries, Inc. (collectively, the “Settling Defendants”). Under the terms of the proposed settlement, the Settling Defendants will pay $215,000 to reimburse the United States for costs incurred at the Site. The Settling Defendants shall also undertake certain sampling work in the event flood waters exceed certain levels.

The Department of Justice will receive for a period of thirty (30) days from the date of this publication comments relating to the Consent Decree.

Comments should be addressed to the Assistant Attorney General, Environmental and Natural Resources Division, and either e-mailed to pubcomment-ees.enrd@usdoj.gov or mailed to P.O. Box 7611, U.S. Department of Justice, Washington, DC 20044-7611, and should refer to United States v. Baldwinville Products, Inc., (D. Mass.), D.J. Ref. 90-11-3-1728.

The Consent Decree may be examined at the Office of the United States Attorney, Donohue Federal Building, 595 Main Street, Room 206, Worcester, Massachusetts, and at the United States Army Corps of Engineers, New England District, 969 Virginia Road, Concord, Massachusetts. During the public comment period, the Consent Decree, may also be examined of the following Department of Justice Web-site, to http://www.usdoj.gov/enrd/Consent_Decrees.html. A copy of the consent Decree may also be obtained by mail from the Consent Decree Library, P.O. Box 7611, U.S. Department of Justice, Washington, DC 20044-7611 or by faxing or e-mailing a request to Tonia Fleetwood (tonia.fleetwood@fleetwood@usdoj.gov), fax no. (202) 514-0097, phone confirmation number (202) 514-1547. In requesting a copy from the Consent Decree Library, please enclose a check in the amount of $5.50 (25 cents per page reproduction cost) payable to the U.S. Treasury or, if by e-mail or fax, forward a check in that amount to the Consent Decree Library at the stated address.

Ronald Gluck,
Assistant Chief, Environmental Enforcement and Natural Resources Division.

[FR Doc. 07-2700 Filed 5-31-07; 8:45am]

BILLING CODE 4410-15-M